DEPARTMENT OF HOMELAND SECURITY

Federal Emergency Management Agency

[Docket ID FEMA-2013-0006]

Tribal Declarations Pilot Guidance

AGENCY: Federal Emergency Management Agency, DHS.

ACTION: Notice.

SUMMARY: The Federal Emergency Management Agency (FEMA) is accepting comments on the Tribal Declarations Pilot Guidance.

DATES: Comments must be received by April 7, 2016.

ADDRESSES: Comments must be identified by docket ID FEMA-2013-0006 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, 8NE, 500 C Street SW., Washington, DC 20472-3100.

FOR FURTHER INFORMATION CONTACT: Jessica Specht, Federal Emergency Management Agency, 500 C Street SW., Washington, DC 20472, 202-212-2288.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section. Please submit your comments and any supporting material by only one means to avoid the receipt and review of duplicate submissions.

Docket: The proposed guidance is available in docket ID FEMA-2013-0006. For access to the docket to read background documents or comments received, go to the Federal eRulemaking Portal at http://www.regulations.gov and search for the docket ID. Submitted comments may also be inspected at FEMA, Office of Chief Counsel, 8NE, 500 C Street SW., Washington, DC 20472.

II. Background

The Sandy Recovery Improvement Act of 2013 amended the Robert T. Stafford Disaster Relief and Emergency Assistance Act, as amended, 42 U.S.C. 5121 et seq. (Stafford Act), to provide federally-recognized Indian Tribal governments the option to request a Presidential emergency or major disaster declaration.¹ FEMA is proposing to establish a pilot program to manage declaration requests from Indian Tribal governments, and is seeking comment on its proposed Tribal Declarations Pilot Guidance to implement such a program.

¹ Public Law 113-2, § 1110.

The proposed guidance does not have the force or effect of law.

FEMA seeks comment on the proposed guidance, which is available online at http://www.regulations.gov in docket ID FEMA-2013-0006. Based on the comments received, FEMA may make appropriate revisions to the proposed guidance. Although FEMA will consider any comments received in the drafting of the final policy, FEMA will not provide a response to comments document. When or if FEMA issues a final policy, FEMA will publish a notice of availability in the Federal Register and make the final guidance available at http://www.regulations.gov. The final guidance will not have the force or effect of law.

Authority: Pub. L. 113-2.

Dated: December 30, 2015.
W. Craig Fugate,
Administrator, Federal Emergency Management Agency.

[FR Doc. 2016-00173 Filed 1-7-16; 8:45 am]

BILLING CODE 9111-23-P